DEPARTMENT OF AGRICULTURE

Forest Service

Southwestern Region, Arizona, New Mexico, West Texas and Oklahoma: Proposed Land and Resource Management Plan Amendment for the Valle Vidal, Carson National Forest, Taos and Colfax Counties, NM

AGENCY: Forest Service, USDA.

ACTION: Notice of Intent to prepare an environmental impact statement.

SUMMARY: The USDA Forest Service is preparing an Environmental Impact Statement (EIS) to consider and disclose the effects of amending the Carson National Forest's 1987 Land and Resource Management Plan (hereafter called Forest Plan) to incorporate standards and guidelines for the management of the Valle Vidal area of the Carson National Forest. The proposed Forest Plan amendment includes a recommendation for a special area designation of the “Upper Ponil Botanical Area.”

DATES: Comments on the proposed amendment should be submitted before September 15, 2005.

The Draft EIS is expected to be available for public review sometime in February or March 2006. At that time, a Notice of Availability for the Draft EIS will be published in the Federal Register and a 90-day comment period will follow. The Final EIS is scheduled to be completed in September 2006.

ADDRESSES: Comments concerning the proposed amendment should be sent to Carson National Forest, ATTN: Valle Vidal Forest Plan Amendment, 208 Cruz Alta Road, Toas, NM 87571. E-mail comments may be sent to comments-southwestern-carson@fs.fed.us. “Valle Vidal Forest Plan Amendment” must be in the subject line of the e-mail.

FOR FURTHER INFORMATION CONTACT: David Seesholtz, Forest Planner, Carson National Forest, at (505) 758-6210. Additional information related to the proposed amendment can be obtained from the Forest's Web page at http://www.fs.fed.us/r3/carson/ or directly from the Forest on compact disc or a paper copy.

SUPPLEMENTARY INFORMATION: The information presented in this notice is included to help the reviewer determine if they are interested in or potentially affected by the proposed action.

Purpose and Need for Action

In 1982, Pennzoil Corporation donated 101,794 acres (Valle Vidal) to the American people. Due to the timing of the donation, the lack of resource inventories, and the fact the Carson National Forest had already begun the development of its Land and Resource Management Plan (Forest Plan), the management of the Valle Vidal was only partially considered in the development of the Forest Plan. Timber suitability was analyzed as part of plan development, however a desired condition and standards and guidelines for the Valle Vidal were never established. A Multiple Use Area Guide was developed in October 1982 and provides general direction for the Valle Vidal.

In order to bring management direction for the Valle Vidal into full conformance with the Carson National Forest's Forest Plan, an amendment is needed to establish Forest Plan natural resource goals, objectives, standards and guidelines, and desired future condition for the Valle Vidal. The plan amendment will speak directly to the desired condition, with standards and guidelines needed to meet this desired condition.

Proposed Action

The Forest Service proposes to provide additional guidance for the Valle Vidal Unit on the Carson National Forest through a Forest Plan amendment. This area was identified as Management Area 21 in the Land and Resource Management Plan (1986).

The proposed action would establish a long-term desired condition for the Valle Vidal and would incorporate Forest-wide prescriptions and specific Management Area prescriptions (standards and guidelines) from the current Forest Plan to apply on the Valle Vidal.

Area specific standards and guidelines for the Valle Vidal are also proposed. Standards and guidelines specific to the Valle Vidal would take precedence over Forest-wide standards and guidelines. Generally these standards compliment the Forest-wide standards.

The proposed action would recommend a 4,083-acre botanical area as a Special Area (Management Area 19). A few specific standards and guidelines are proposed for this management area.

A detailed description of the Proposed Action can be accessed via the Internet at http://www.fs.fed.us/r3/carson/. This site also contains background information about the management of the Valle Vidal and discussion on why additional management direction is needed for the area.

Public Involvement

Over the last several months, the Forest has received from the public over 5,000 form letters, 120 post cards, 600 individual letters, a petition and many phone calls expressing their views on the management of the Valle Vidal. Open house informational meetings were held in Taos, Raton and Santa Fe earlier this year. Comments raised during these meetings, as well as other public comments, helped in formulating the proposed action is largely to formalize the current management strategy.

Additional open house meetings will be held in July and august during the scoping period. These meetings are tentatively scheduled for Taos, Raton, and Santa Fe. Due to the large amount of public interest expressed in the development of the proposed action the scoping will run for 90 days.

Preliminary Issues and Alternatives

The Forest Service has developed the proposed action to meet the purpose and need for action with the best information available—it is not a decision. This proposal is intended to facilitate public involvement in identifying pertinent issues, developing meaningful alternatives, and analyzing relevant effects. A range of alternatives, including the no action alternative, will be developed based upon issues identified during our scoping process and the associated analysis.

Lead and Cooperating Agencies

USDA Forest Service, Carson National Forest will serve as the lead agency for this analysis.

Responsible Official

The Forest Supervisor for the Carson National Forest of the Southwestern Region of the USDA Forest Service is the Responsible Official.

Nature of Decision To Be Made

Forest Plans define the direction for managing the National Forests. This amendment will provide the management direction for the Valle Vidal and provide the foundation for future activities. The amendment defines the overall management vision of the Valle Vidal and identifies specific standards and guidelines that will help move management of the Valle Vidal towards this vision. The decision made through this amendment would serve as Forest Plan direction until the Forest Plan is further amended or revised.

Other analyses may be completed in the future to determine the appropriate level of activities to occur by a specific program. The Leasing Analysis required to determine whether to make certain lands available to development of natural gas resources is an example of possible future analyses. Future decisions would have to be consistent with the management direction provided through this current analysis or would have to amend this direction.

Comment Requested

The Forest Service would like to know of any issues, concerns, and/or suggestions the public, Native American tribes, or other government agencies have about the proposal. Comments should be as fully formed as possible to assist in the analysis. If you have any questions, or if something is unclear, contact David Seesholtz at 505-758-6210 before submitting your comments.

Although comments are welcome at any time, they will be most effective if received by September 15, 2005. Send comment to: Carson National Forest, ATTN: Valle Vidal Plan Amendment, 208 Cruz Alta Road, Taos, NM 87571.

Alternately, e-mail your commentsto comments-southwestern-carson@fs.fed.us. “Valle Vidal Forest Plan Amendment” must be in the subject line of the e-mail.

Reviewer's Obligation: Comments received in response to this solicitation, including names and addresses of those who comment, will be considered part of the public record on this proposed action and will be available for public inspection. Comments submitted anonymously will be accepted and considered; however, those who submit anonymous comments will not have standing to appeal the subsequent decision under 36 CFR parts 215 or 217. Additionally, pursuant to 7 CFR 1.27 (d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within seven days.

The Forest Service believes, at this early stage, it is important to give reviewers notice of several court rulings related to public participation in the environmental review process. First, reviewers of draft environmental impact statements must structure their participation in the environmental review of the proposal so that it is meaningful and alerts the agency to the reviewer's position and contentions. Vermont Yankee Nuclear Power Corp v. NRDC, 435 U.S. 519, 553 (1978). Also, environmental objections that could be raised at the draft environmental impact stage but that are not raised nolil after completion of the final environmental impact statement may be waived or dismissed by the courts. City of Angoon v. Hodel, 803 F.2d 1016, 1022 (9th Cir. 1986) and Wisconsin Heritages, Inc., 490 F. Supp. 1334, 1338 (E.D. Wise. 1980). Because of these court rulings, it is very important that those interested in this proposed action participate by the close of the comment period so that substantive comments and objections are made available to the Forest Service at the time when it can meaningfully consider them and respond to them in the final environmental impact statement. PAuthorization: National Environmental Policy Act of 1969 as amended (42 U.S.C. 4321-346); Council on Environmental Quality Regulations (40 CFR parts 1500-1508); U.S. Department of Agriculture NEPA Policies and Procedures (7 CFR part 1b).

Dated: June 8, 2005.
Martin D. Chavez Jr.,
Forest Supervisor, Carson National Forest.

[FR Doc. 05-11702 Filed 6-13-05; 8:45 am]

BILLING CODE 3410-11-M